DEPARTMENT OF THE TREASURY

Submission for OMB Review; Comment Request

September 14, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 20, 2006 to be assured of consideration.

Alcohol and Tobacco Tax and Trade Bureau (TTB)

OMB Number: 1513-0029.

Type of Review: Extension.

Title: Certification of Tax Determination—Wine.

Form: TTB F 5120.20.

Description: TTB F 5120.20 supports the exporter's claim for drawback, as the producing winery verifies that the wine being exported was in fact tax paid.

Respondents: Private Sector.

Estimated Total Burden Hours: 500 hours.

OMB Number: 1513-0038.

Type of Review: Extension.

Title: Application for Transfer of Spirits and/or Denatured Spirits in Bond.

Form: TTB F 5100.16.

Description: TTB F 5100.16 is completed by distilled spirits plant proprietors who wish to receive spirits in bond from other distilled spirits plants. TTB uses the information to determine if the applicant has sufficient bond coverage for the additional tax liability assumed when spirits are transferred in bond.

Respondents: Private Sector.

Estimated Total Burden Hours: 300 hours.

OMB Number: 1513-0012.

Type of Review: Extension.

Title: User's Report of Denatured Spirits.

Form: TTB F 5150.18.

Description: The information on TTB F 5150.18 is used to pinpoint unusual activities in the use of specially denatured spirits. The form shows a summary of activities at permit premises. TTB examines and verifies certain entries on these reports to identify unusual activities, errors and omissions.

Respondents: Private Sector.

Estimated Total Burden Hours: 830 hours.

OMB Number: 1513-0081.

Type of Review: Extension.

Title: Registration and Records of Vinegar Vaporizing Plants (TTB REC 5110/9).

Description: Data is necessary to identify persons producing and using distilled spirits in the manufacture of vinegar and to account for spirits so produced and used. TTB uses this information to identify persons producing vinegar and to verify that spirits so produced are not unlawfully diverted.

Respondents: Private Sector.

Estimated Total Burden Hours: 1 hour.

OMB Number: 1513-0046.

Type of Review: Extension.

Title: Formula for Distilled Spirits Under the Federal Alcohol Administration Act.

Form: TTB F 5110.38.

Description: TTB F 5110.38 is used to determine the classification of distilled spirits for labeling and for consumer protection. The form describes the person filing, type of product to be made, and restrictions to the labeling and manufacture. The form is used by TTB to ensure that a product is made and labeled properly and to audit distilled spirits operations.

Respondents: Private Sector.

Estimated Total Burden Hours: 4,000 hours.

OMB Number: 1513-0011.

Type of Review: Extension.

Title: Formula and/or Process for Articles Made With Specially Denatured Spirits.

Form: TTB F 5150.19.

Description: TTB F 5150.19 is completed by persons who use specially denatured spirits in the manufacture of certain articles. TTB uses the information provided on the form to ensure the manufacturing formulas and processes conform to the requirement of 26 U.S.C. 5273.

Respondents: Private Sector.

Estimated Total Burden Hours: 2,415 hours.

Clearance Officer: Frank Foote (202) 927-9347, Alcohol and Tobacco Tax and Trade Bureau, Room 200 East, 1310 G. Street, NW., Washington, DC 20005.

OMB Reviewer: Alexander T. Hunt (202) 395-7316, Office of Management and Budget, Room 10235, New Executive Office Building, Washington, DC 20503.

Michael A. Robinson,
Treasury PRA Clearance Officer.

[FR Doc. 06-7926 Filed 9-19-06; 8:45 am]

BILLING CODE 4810-31-P